DEPARTMENT OF TRANSPORTATION

Federal Motor Carrier Safety Administration

[Docket No. FMCSA-1999-6480; FMCSA-2003-16564; FMCSA-2005-23238; FMCSA-2005-21254; FMCSA-2005-21711; FMCSA-2005-22727; FMCSA-2007-0017; FMCSA-2007-0071; FMCSA-2008-0021]

Qualification of Drivers; Exemption Renewals; Vision

AGENCY: Federal Motor Carrier Safety Administration (FMCSA), DOT.

ACTION: Notice of final disposition.

SUMMARY: FMCSA previously announced its decision to renew the exemptions from the vision requirement in the Federal Motor Carrier Safety Regulations for 29 individuals. FMCSA has statutory authority to exempt individuals from the vision requirement if the exemptions granted will not compromise safety. The Agency has concluded that granting these exemptions will provide a level of safety that will be equivalent to, or greater than, the level of safety maintained without the exemptions for these commercial motor vehicle (CMV) drivers.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m. Monday through Friday, except Federal holidays.

SUPPLEMENTARY INFORMATION:

Background

Under 49 U.S.C. 31136(e) and 31315, FMCSA may grant an exemption for a 2-year period if it finds “such exemption would likely achieve a level of safety that is equivalent to, or greater than, the level that would be achieved absent such exemption.” The statute also allows the Agency to renew exemptions at the end of the 2-year period. The comment period ended on May 17, 2010 (75 FR 19674).

Discussion of Comments

FMCSA received one comment in this proceeding. The comment is considered and discussed below. An anonymous individual stated that he feels the Agency is negligent and lets drivers who can't see get by with unsafe regulations. The individual feels that standards need to be instituted to guide the medical doctors.

In regard to this comment, to evaluate the effect of these exemptions on safety, FMCSA considered not only the medical reports about the applicants' vision, but also their driving records and experience with the vision deficiency. To qualify for an exemption from the vision standard, FMCSA requires a person to present verifiable evidence that he or she has driven a commercial vehicle safely with the vision deficiency for 3 years. Recent driving performance is especially important in evaluating future safety, according to several research studies designed to correlate past and future driving performance. Results of these studies support the principle that the best predictor of future performance by a driver is his/her past record of crashes and traffic violations. Copies of the studies may be found at Docket Number FMCSA-1998-3637. FMCSA also relies on the medical physician examining the driver to determine if the individual has sufficient vision to perform the tasks necessary to operate a commercial vehicle safely.

Conclusion

The Agency has not received any adverse evidence on any of these drivers that indicates that safety is being compromised. Based upon its evaluation of the 29 renewal applications, FMCSA renews the Federal vision exemptions for Gerald L. Anderson, Leo G. Becker, Timothy W. Bickford, Stanley W. Davis, Ray L. Emert, Sean O. Feeny, Steven R. Felks, Marvin T. Fowler, Michael J. Frein, Jimmy G. Hall, Hazel L. Hopkins, Jr., Dennis R. Irvin, Mark L. LeBlanc, David A. Miller, Rick P. Moreno, Paul D. Schnautz, Steve J. Sherar, Robert F. Skinner, Jr., William T. Smiley, Richard M. Smith, Robert A. Stoeckle, David N. Stubbs, Edward J. Sullivan, Aaron S. Taylor, Martin L. Taylor, Gary R. Thomas, William B. Thomas, Michael J. Tisher and Kevin R. White.

In accordance with 49 U.S.C. 31136(e) and 31315, each renewal exemption will be valid for 2 years unless revoked earlier by FMCSA. The exemption will be revoked if: (1) The person fails to comply with the terms and conditions of the exemption; (2) the exemption has resulted in a lower level of safety than was maintained before it was granted; or (3) continuation of the exemption would not be consistent with the goals and objectives of 49 U.S.C. 31136 and 31315.

Issued on: June 21, 2010.
Larry W. Minor,
Associate Administrator for Policy and Program Development.

[FR Doc. 2010-15676 Filed 6-25-10; 8:45 am]

BILLING CODE 4910-EX-P